DEPARTMENT OF HEALTH AND HUMAN SERVICES

National Institutes of Health

Submission for OMB Review; Comment Request; Application for Collaboration With the NIH Center for Translational Therapeutics (NCTT)

SUMMARY: Under the provisions of Section 3507(a)(1)(D) of the Paperwork Reduction Act of 1995, the National Center for Advancing Translational Sciences (NCATS), the National Institutes of Health (NIH) has submitted to the Office of Management and Budget (OMB) a request for review and approval of the information collection listed below. This proposed information collection was previously published in the Federal Register on November 11, 2011, page 69743-69744 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Application for collaboration with the NIH Center for Translational Therapeutics (NCTT) . Type of Information Collection Request: New. Need and Use of Information Collection: Programs at the NCTT provide opportunities to partner with and gain access to both common and specifically rare and neglected disease through a variety of programs delivering assay development, screening, hit to lead chemistry, lead optimization, chemical biology studies, drug development capabilities, expertise, and clinical/regulatory resources in a collaborative environment with the goal of moving promising therapeutics into human clinical trials. NCTT uses an application and evaluation process to select collaborators. Selected investigators provide the drug project starting points and ongoing biological/disease expertise throughout the project. Frequency of Response: Once per year. Affected Public: Research scientists. Type of Respondents: not-for-profits, for-profit, governmental. The annual reporting burden is as follows: Estimated Number of Respondents: 170. Estimated Number of Responses per Respondent: 1. Average Burden Hours Per Response: 1. Estimated Total Annual Burden Hours Requested: 510.

Estimates of Hour Burden
Forms | Number of respondents | Number of responses per respondent | Average burden hours per response | Total annual burden hours
Online Collaborator Solicitation | 170 | 1 | 1 | 170
NCTT Project Information Template | 170 | 1 | 1 | 170
Solicitation Instructions (TRND) | 100 | 1 | 1 | 100
Solicitation Instructions (BrIDGs) | 70 | 1 | 1 | 70
Total |  |  |  | 510

The annualized cost to respondents is estimated at: $21,261. Capital Costs are $0. Operating Cost is roughly $14,333 for the database to accept and coordinate responses.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Dr. Helen Gift, Chief, Disease Prevention and Health Promotion Branch, DEODP, NIDCR, NIH, Natcher Building, Room 3AN-44D, 9000 Rockville Pike, Bethesda, MD 20892, or call non-toll-free number 301-594-5579 or Email your request, including your address to: GiftH@de45.nidr.nih.gov.

Comments Due Date: Comments regarding this information collection are best assured of having their full effect if received within 30-days of the date of this publication.

Dated: February 15, 2012.
John McKew,
Chief, Preclinical Development Branch, NIH Center for Translational Therapeutics, National Center for Advancing Translational Sciences, National Institutes of Health.

[FR Doc. 2012-4212 Filed 2-22-12; 8:45 am]

BILLING CODE 4140-01-P